DEPARTMENT OF COMMERCE

International Trade Administration

[A-570-836]

Glycine from the People's Republic of China: Notice of Rescission of Antidumping Duty Administrative Review

AGENCY: Import Administration, International Trade Administration, Department of Commerce.

SUMMARY: On April 27, 2009, the U.S. Department of Commerce (the Department) published a notice of initiation of an administrative review of the antidumping duty order on glycine from the People's Republic of China (PRC). The review covers 86 producers/exporters of glycine from the PRC, including mandatory respondent Baoding Mantong Fine Chemistry Co., Ltd. (Baoding Mantong). Based on a withdrawal of request from GEO Specialty Chemicals, Inc. (GEO), a domestic producer of glycine, we are now rescinding this administrative review in full.

EFFECTIVE DATE: August 26, 2009.

FOR FURTHER INFORMATION CONTACT: Dena Crossland, Brian Davis, or Angelica Mendoza, AD/CVD Operations, Office 7, Import Administration, International Trade Administration, U.S. Department of Commerce, 14th Street and Constitution Avenue, NW, Washington, DC 20230; telephone: (202) 482-3362, (202) 482-7924, or (202) 482-3019, respectively.

SUPPLEMENTARY INFORMATION:

Background

On March 2, 2009, the Department published in the Federal Register the notice of opportunity to request an administrative review of the antidumping duty order on glycine from the PRC for the period March 1, 2008, through February 28, 2009. See Antidumping or Countervailing Duty Order, Finding, or Suspended Investigation; Opportunity To Request Administrative Review, 74 FR 9077 (March 2, 2009). On March 31, 2009, the Department received a request from GEO, a domestic producer of glycine, that the Department conduct an administrative review of the antidumping duty order on glycine from the PRC. GEO requested that the review cover 86 producers/exporters of glycine from the PRC. On April 27, 2009, the Department published in the Federal Register the notice of initiation of the 2008-2009 administrative review of glycine from the PRC. See Initiation of Antidumping and Countervailing Duty Administrative Reviews and Request for Revocation in Part, 74 FR 19042 (April 27, 2009).

On May 22, 2009, because it was not practicable in this administrative review to examine all 86 producers/exporters of the subject merchandise, the Department selected Baoding Mantong as the mandatory respondent in the instant administrative review. See memo to the file titled, “Antidumping Duty Administrative Review of Glycine from the People's Republic of China: Respondent Selection Memo,” dated May 22, 2009. Also on May 22, 2009, the Department issued its antidumping duty questionnaire to Baoding Mantong. Baoding Mantong submitted its response to the Department's section A antidumping duty questionnaire on June 19, 2009 (AQR), and sections C and D of the antidumping duty questionnaire on July 13, 2009. On July 20, 2009, Baoding Mantong supplemented its AQR by submitting its 2008 financial statement which (as explained at page A-14 of Baoding Mantong's June 19, 2009, response) were yet to be completed as of the June 19, 2009, filing. On July 24, 2009, GEO filed a letter withdrawing its request for review of the 86 companies, including Baoding Mantong, for which the Department initiated this review.

Period of Review

The period of review (POR) is March 1, 2008, through February 28, 2009.

Scope of the Order

The product covered by the order is glycine, which is a free-flowing crystalline material, like salt or sugar. Glycine is produced at varying levels of purity and is used as a sweetener/taste enhancer, a buffering agent, reabsorbable amino acid, chemical intermediate, and a metal complexing agent. This review covers glycine of all purity levels. Glycine is currently classified under subheading 2922.49.4020 of the Harmonized Tariff Schedule of the United States (“HTSUS”). Although the HTSUS subheading is provided for convenience and Customs purposes, the written description of the merchandise subject to the order is dispositive.

Rescission of Antidumping Administrative Review

Pursuant to 19 CFR § 351.213(d)(1), the Secretary will rescind an administrative review under this section, in whole or in part, if a party that requested a review withdraws the request within 90 days of the date of publication of notice of initiation of the requested review. Because petitioner submitted its request to rescind the administrative review of all 86 companies within 90 days of the date of publication of the notice of initiation, the Department is rescinding this review in accordance with 19 CFR § 351.213(d)(1).

Assessment Instructions

The Department will instruct U.S. Customs and Border Protection (CBP) to assess antidumping duties on all appropriate entries. For companies for which this review is rescinded, antidumping duties shall be assessed at rates equal to the cash deposit of estimated antidumping duties required at the time of entry, or withdrawal from warehouse, for consumption, in accordance with 19 CFR § 351.212(c)(1)(i). The Department intends to issue appropriate assessment instructions directly to CBP 15 days after publication of this notice.

Notification to Importers

This notice serves as a reminder to importers of their responsibility under 19 CFR § 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR § 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR § 351.213(d)(4).

August 19, 2009.
John M. Andersen,
Acting Deputy Assistant Secretary for Antidumping and Countervailing Duty Operations.

[FR Doc. E9-20611 Filed 8-25-09; 8:45 am]

BILLING CODE 3510-DS-S